FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Allright Shipping, Inc. (NVO & OFF), 1350 Bronx River Avenue, Bronx, NY 10472. Officer: Denzil Barker, President, (Qualifying Individual). Application Type: New NVO & OFF License.

Cambria Global Logistics, LLC (OFF), 12140 Quilting Lane, Boca Raton, FL 33428. Officers: Panu Virtanen, Managing Member, (Qualifying Individual). Kathleen Virtanen, Managing Member. Application Type: New OFF License.

Glory Express Inc. (NVO), 19825 Hamilton Avenue, Torrance, CA 90502. Officer: JinYoung Bae, President/Secretary/CFO, (Qualifying Individual). Application Type: QI Change.

K&K Express, LLC dba K2 Logistics (NVO & OFF), 2980 Commers Drive, #100, Eagan, MN 55121. Officers: Wanda L. Dessent, Vice President-International-Houston, (Qualifying Individual). Christiaan Walhof, CEO/President/CFO. Application Type: QI Change.

Overseas Cargo, Inc. (NVO & OFF), 9614 Pondwood Road, Boca Raton, FL 33428. Officer: Suramya (A.K.A. Ron) T. Atapattu, President/Secretary/Treasurer/Director, (Qualifying Individual). Application Type: New NVO & OFF License.

Smile Cha dba SMH Global Transport (NVO), 8636 York Circle, La Palma, CA 90623. Officer: Smile Cha, Sole Proprietor, (Qualifying Individual). Application Type: New NVO License.

Westwind Shipping and Logistics, Inc. (NVO), 38 West 32nd Street, Suite 1309B, New York, NY 10001. Officer: Harry Taurani, President/Secretary/Treasurer/CFO, (Qualifying Individual). Application Type: New NVO License.

World Class Solutions LLC (NVO & OFF), 3901 NW 79th Avenue, Suite 230, Doral, FL 33166. Officer: Jorgelina G. Marsaglia, President, (Qualifying Individual). Application Type: New NVO & OFF License.

Dated: September 17, 2010.
Karen V. Gregory,
Secretary.

[FR Doc. 2010-23676 Filed 9-21-10; 8:45 am]

BILLING CODE 6730-01-P